NATIONAL CREDIT UNION ADMINISTRATION

Agency Information Collection Activities: Submission to OMB for extension of a currently approved collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. Chapter 35). This information collection is published to obtain comments from the public.

DATES: Comments will be accepted until May 23, 2005.

ADDRESSES: Interested parties are invited to submit written comments to the NCUA Clearance Officer listed below:

Clearance Officer: Mr. Neil McNamara, National Credit Union Administration, 1775 Duke Street, Alexandria, VA 22314-3428. Fax No. 703-518-6669. E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: 12 CFR 712, Credit Union Service Organizations.

OMB Number: 3133-0149.

Form Number: None.

Type of Review: Reinstatement, with change, of a previously approved collection for which approval has expired.

Description: This rule helps ensure that relationships that credit unions have with credit union service organizations are adequately and properly documented.

Respondents: Credit unions.

Estimated No. of Respondents/Recordkeepers: 271.

Estimated Burden Hours Per Response: 2 hours.

Frequency of Response: Recordkeeping, reporting and on occasion.

Estimated Total Annual Burden Hours: 560 hours.

Estimated Total Annual Cost: 0.

Dated: By the National Credit Union Administration Board on April 13, 2005.
Mary Rupp,
Secretary of the Board.

[FR Doc. 05-8079 Filed 4-21-05; 8:45 am]

BILLING CODE 7535-01-P